DEPARTMENT OF THE INTERIOR

National Park Service

Notice of Public Meeting and Teleconference for the National Park Service Alaska Region's Subsistence Resource Commission (SRC) Program

AGENCY: National Park Service, Interior.

ACTION: Notice of public meeting and teleconference for the National Park Service Alaska Region's Subsistence Resource Commission (SRC) program.

SUMMARY: The Wrangell-St. Elias National Park SRC will conduct a meeting and teleconference to develop and continue work on National Park Service (NPS) subsistence hunting program recommendations and other related subsistence management issues. The NPS SRC program is authorized under title VIII, section 808 of the Alaska National Interest Lands Conservation Act, Public Law 96-487, to operate in accordance with the provisions of the Federal Advisory Committee Act.

Public Availability of Comments: The meeting and teleconference are open to the public and will have time allocated for public testimony. The public is welcome to present written or oral comments to the SRC. The meeting will be recorded and meeting minutes will be available upon request from the park superintendent in approximately six weeks after June 9, 2010. Before including your address, telephone number, e-mail address, or other personal identifying information in your written or oral comments, you should be aware that your entire comment—including your personal identifying information—may be made publicly available at any time. While you can ask us in your comment to withhold your personal identifying information from public review, we cannot guarantee that we will be able to do so.

Teleconference Information: The teleconference will be open to the public. Teleconference participants must call the Wrangell-St. Elias National Park and Preserve office at 907-822-5234 or 907-822-7236, at least 72 hours prior to the meeting to receive teleconference passcode information.

Wrangell-St. Elias National Park SRC Meeting and Teleconference Date and Location: The Wrangell-St. Elias National Park SRC meeting will be held on Wednesday, June 9, 2010, from 9 a.m. to 5 p.m. at the Wrangell-St. Elias National Park and Preserve, Copper Center, AK. The meeting may end early if all business is completed.

For Further Information on the Wrangell St. Elias National Park SRC Meeting and Teleconference Contact: Meg Jensen, Superintendent, or Barbara Cellarius, Subsistence Manager, (907) 822-5234, Wrangell-St. Elias National Park and Preserve, P.O. Box 439, Copper Center, AK 99573, or Clarence Summers, Subsistence Manager, NPS Alaska Regional Office, at (907) 644-3603.

Proposed SRC Meeting Agenda:

The proposed meeting agenda for each meeting includes the following:

1. Call to order.

2. SRC Roll Call and Confirmation of Quorum.

3. SRC Chair and Superintendent's Welcome and Introductions.

4. Administrative Announcements.

5. Review and Approve Agenda.

6. Approval of Minutes from Last SRC Meeting.

7. SRC Member Reports.

8. National Park Service Staff Report.

9. Federal Subsistence Board Update.

10. Alaska Board of Game Update.

11. Old Business.

a. Nabesna Road Off Highway Vehicle Environmental Impact Statement Update.

b. Subsistence Uses of Horns, Antlers, Bones and Plants EA Update.

c. Chisana Caribou Herd Management Plan Update.

12. New Business.

13. Public and other Agency Comments.

14. SRC Work/Training Session.

15. Set Time and Place for next SRC Meeting.

16. Adjournment.

SRC meeting locations and dates may need to be changed based on lack of quorum, inclement weather or local circumstances. If the meeting date and location are changed, a notice will be published in local newspapers and announced on local radio stations prior to the meeting date. The SRC meeting and teleconference may end early if all business is completed.

Victor W. Knox,
Acting Regional Director, Alaska.

[FR Doc. 2010-11061 Filed 5-10-10; 8:45 am]

BILLING CODE 4312-HC-P